DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and one aircraft that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On January 8, 2019, OFAC determined that the property and interests in property subject to U.S. jurisdiction of the following persons, and the following aircraft subject to U.S. jurisdiction, are blocked under the relevant sanctions authorities listed below.

Individuals

1. DIAZ GUILLEN, Claudia Patricia (a.k.a. DIAZ, Claudia; a.k.a. DIAZ-GUILLEN, Claudia), Cap Cana, Dominican Republic; Spain; DOB 25 Nov 1973; citizen Venezuela; Gender Female; Cedula No. 11502896 (Venezuela); Passport 030415788 (Venezuela) expires 22 Nov 2014 (individual) [VENEZUELA-EO13850].

Designated pursuant to section 1(a)(ii) of Executive Order 13850 of November 1, 2018, “Blocking Property of Additional Persons Contributing to the Situation in Venezuela” (E.O. 13850), for being responsible for or complicit in, or having directly or indirectly engaged in, any transaction or series of transactions involving deceptive practices or corruption and the Government of Venezuela or projects or programs administered by the Government of Venezuela, or for being an immediate adult family member of such a person.

2. GORRIN BELISARIO, Raul (a.k.a. GORRIN BELISARIO, Raul Antonio; a.k.a. GORRIN BELISARIO, Raul Antonio De La Santisima Trinidad; a.k.a. GORRIN, Raul; a.k.a. GORRIN, Raul A; a.k.a. GORRIN, Raul Antonio; a.k.a. GORRIN-BELISARIO, Raul Antonio De La Santisima), 4100 Salzedo Street, Apt. 1010, Miami, FL 33146, United States; 4100 Salzedo St., Unit 804, Coral Gables, FL 33146, United States; 144 Isla Dorada Blvd., Coral Gables, FL 33143, United States; DOB 22 Nov 1968; citizen Venezuela; Gender Male; Cedula No. 8682996 (Venezuela); Passport 129603081 (Venezuela) expires 14 Oct 2020; alt. Passport 066936455 (Venezuela) expires 10 Jan 2018; alt. Passport 007931220 (Venezuela) expires 24 Jan 2013 (individual) [VENEZUELA-EO13850].

Designated pursuant to section 1(a)(ii) of E.O. 13850 for being responsible for or complicit in, or having directly or indirectly engaged in, any transaction or series of transactions involving deceptive practices or corruption and the Government of Venezuela or projects or programs administered by the Government of Venezuela, or for being an immediate adult family member of such a person.

3. PERDOMO ROSALES, Maria Alexandra (a.k.a. DE PERDOMO, Maria A; a.k.a. DE PERDOMO, Maria Alejandra; a.k.a. PERDOMO, Maria Alexandra; a.k.a. PERDOMO-ROSALES, Maria), 144 Isla Dorada Blvd., Coral Gables, FL 33146, United States; 4100 Salzedo Street, Apt 1010, Miami, FL 33146, United States; DOB 25 Mar 1972; citizen Venezuela; Gender Female; Cedula No. 10538067 (Venezuela); Passport 135278046 (Venezuela) expires 14 Oct 2020; alt. Passport 079280833 (Venezuela) expires 22 Oct 2018; alt. Passport 018516885 (Venezuela) expires 04 Dec 2013 (individual) [VENEZUELA-EO13850] (Linked To: GORRIN BELISARIO, Raul).

Designated pursuant to section 1(a)(ii) of E.O. 13850 for being responsible for or complicit in, or having directly or indirectly engaged in, any transaction or series of transactions involving deceptive practices or corruption and the Government of Venezuela or projects or programs administered by the Government of Venezuela, or for being an immediate adult family member of such a person.

4. PERDOMO ROSALES, Gustavo Adolfo (a.k.a. PERDOMO ROSALES, Gustavo A; a.k.a. PERDOMO, Gustavo; a.k.a. PERDOMO, Gustavo A; a.k.a. PERDOMO, Gustavo Adolfo; a.k.a. PERDOMO-ROSALES, Gustavo), 4100 Salzedo St., Unit 804, Coral Gables, FL 33146, United States; 18555 Collins Avenue, Unit 4405, Sunny Isles, FL 33160, United States; DOB 05 Feb 1979; citizen Venezuela; Gender Male; Cedula No. 14585388 (Venezuela); Passport 083119116 (Venezuela) expires 28 Jan 2019; alt. Passport 023639834 (Venezuela) expires 13 Jun 2014 (individual) [VENEZUELA-EO13850].

Designated pursuant to section 1(a)(ii) of E.O. 13850 for being responsible for or complicit in, or having directly or indirectly engaged in, any transaction or series of transactions involving deceptive practices or corruption and the Government of Venezuela or projects or programs administered by the Government of Venezuela, or for being an immediate adult family member of such a person.

5. TARASCIO-PEREZ, Mayela Antonina (a.k.a. DE PERDOMO, Mayela T; a.k.a. DE PERDOMO, Mayela Tarascio; a.k.a. TARASCIO DE PERDOMO, Mayela A; a.k.a. TARASCIO DE PERDOMO, Mayela Antonina; a.k.a. TARASCIO, Mayela; a.k.a. TARASCIO-PEREZ, Mayela), 4100 Salzedo St., Unit 804, Coral Gables, FL 33146, United States; DOB 20 Feb 1985; citizen Venezuela; Gender Female; Passport 083111668 (Venezuela) expires 28 Jan 2019; alt. Passport 023639818 (Venezuela) expires 13 Jun 2014; alt. Passport C1453352 (Venezuela) expires 02 Nov 2009 (individual) [VENEZUELA-EO13850] (Linked To: PERDOMO ROSALES, Gustavo Adolfo).

Designated pursuant to section 1(a)(ii) of E.O. 13850 for being responsible for or complicit in, or having directly or indirectly engaged in, any transaction or series of transactions involving deceptive practices or corruption and the Government of Venezuela or projects or programs administered by the Government of Venezuela, or for being an immediate adult family member of such a person.

6. VELASQUEZ FIGUEROA, Adrian Jose (a.k.a. VELASQUEZ, Adrian), Cap Cana, Dominican Republic; Spain; DOB 02 Nov 1979; citizen Venezuela; Gender Male; Cedula No. 13813453 (Venezuela); Passport 024421568 (Venezuela) expires 25 Jun 2014 (individual) [VENEZUELA-EO13850].

Designated pursuant to section 1(a)(ii) of E.O. 13850 for being responsible for or complicit in, or having directly or indirectly engaged in, any transaction or series of transactions involving deceptive practices or corruption and the Government of Venezuela or projects or programs administered by the Government of Venezuela, or for being an immediate adult family member of such a person.

7. GONZALEZ DELLAN, Leonardo (a.k.a. GONZALEZ, Leonardo), London, United Kingdom; DOB 11 Sep 1966; citizen Venezuela; Gender Male; Cedula No. 8639102 (Venezuela); Passport 073785390 (Venezuela) expires 01 Jul 2018; alt. Passport 046041771 (Venezuela) expires 24 May 2016; alt. Passport 002272834 (Venezuela) expires 14 Aug 2012 (individual) [VENEZUELA-EO13850].

Designated pursuant to section 1(a)(ii) of E.O. 13850 for being responsible for or complicit in, or having directly or indirectly engaged in, any transaction or series of transactions involving deceptive practices or corruption and the Government of Venezuela or projects or programs administered by the Government of Venezuela, or for being an immediate adult family member of such a person.

Entities

1. CONSTELLO INC., Saint Kitts and Nevis [VENEZUELA-EO13850] (Linked To: TARASCIO-PEREZ, Mayela Antonina; Linked To: PERDOMO ROSALES, Gustavo Adolfo).

Designated pursuant to section 1(a)(iv) of E.O. 13850 for being owned or controlled by, or having acted or purported to act for or on behalf of, directly or indirectly, TARASCIO-PEREZ, Mayela Antonina and PERDOMO ROSALES, Gustavo Adolfo, persons whose property and interests in property are blocked pursuant to E.O. 13850.

2. CONSTELLO NO. 1 CORPORATION, 4100 Salzedo Street, Unit 804, Coral Gables, FL 33146, United States; DE, United States [VENEZUELA-EO13850] (Linked To: TARASCIO-PEREZ, Mayela Antonina; Linked To: PERDOMO ROSALES, Gustavo Adolfo).

Designated pursuant to section 1(a)(iv) of E.O. 13850 for being owned or controlled by, or having acted or purported to act for or on behalf of, directly or indirectly, TARASCIO-PEREZ, Mayela Antonina and PERDOMO ROSALES, Gustavo Adolfo, persons whose property and interests in property are blocked pursuant to E.O. 13850.

3. CORPOMEDIOS GV INVERSIONES, C.A., Calle Alameda Quinta Globovision Pb, Libertador, Caracas, Venezuela [VENEZUELA-EO13850] (Linked To: GORRIN BELISARIO, Raul; Linked To: PERDOMO ROSALES, Gustavo Adolfo).

Designated pursuant to section 1(a)(iv) of E.O. 13850 for being owned or controlled by, or having acted or purported to act for or on behalf of, directly or indirectly, GORRIN BELISARIO, Raul, and PERDOMO ROSALES, Gustavo Adolfo, persons whose property and interests in property are blocked pursuant to E.O. 13850.

4. CORPOMEDIOS LLC, 4100 Salzedo Street, Unit 804, Coral Gables, FL 33146, United States [VENEZUELA-EO13850] (Linked To: GORRIN BELISARIO, Raul; Linked To: PERDOMO ROSALES, Gustavo Adolfo).

Designated pursuant to section 1(a)(iv) of E.O. 13850 for being owned or controlled by, or having acted or purported to act for or on behalf of, directly or indirectly, GORRIN BELISARIO, Raul, and PERDOMO ROSALES, Gustavo Adolfo, persons whose property and interests in property are blocked pursuant to E.O. 13850.

5. GLOBOVISION TELE C.A. (a.k.a. GLOBOVISION), Caracas, Venezuela [VENEZUELA-EO13850] (Linked To: GORRIN BELISARIO, Raul; Linked To: PERDOMO ROSALES, Gustavo Adolfo).

Designated pursuant to section 1(a)(iv) of E.O. 13850 for being owned or controlled by, or having acted or purported to act for or on behalf of, directly or indirectly, GORRIN BELISARIO, Raul, and PERDOMO ROSALES, Gustavo Adolfo, persons whose property and interests in property are blocked pursuant to E.O. 13850.

6. GLOBOVISION TELE CA, CORP., 4100 Salzedo Street, Unit 804, Coral Gables, FL 33146, United States [VENEZUELA-EO13850] (Linked To: GORRIN BELISARIO, Raul; Linked To: PERDOMO ROSALES, Gustavo Adolfo).

Designated pursuant to section 1(a)(iv) of E.O. 13850 for being owned or controlled by, or having acted or purported to act for or on behalf of, directly or indirectly, GORRIN BELISARIO, Raul, and PERDOMO ROSALES, Gustavo Adolfo, persons whose property and interests in property are blocked pursuant to E.O. 13850.

7. MAGUS HOLDING II, CORP., 4100 Salzedo St., Unit 804, Coral Gables, FL 33146, United States; 140 Paloma Drive, Coral Gables, FL 33143, United States [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

8. MAGUS HOLDING LLC, 4100 Salzedo St., Unit 804, Coral Gables, FL 33146, United States [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

9. MAGUS HOLDINGS USA, CORP., 4100 Salzedo St., Unit 804, Coral Gables, FL 33146, United States [VENEZUELA-EO13850] (Linked To: PERDOMO ROSALES, Gustavo Adolfo; Linked To: TARASCIO-PEREZ, Mayela Antonina).

Designated pursuant to section 1(a)(iv) of E.O. 13850 for being owned or controlled by, or having acted or purported to act for or on behalf of, directly or indirectly, PERDOMO ROSALES, Gustavo Adolfo, and TARASCIO-PEREZ, Mayela Antonina, persons whose property and interests in property are blocked pursuant to E.O. 13850.

10. PLANET 2 REACHING, INC., DE, United States; 7043 Fisher Dr., Unit 7043, Miami Beach, FL 33109-0064, United States [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

11. POSH 8 DYNAMIC, INC., 18555 Collins Avenue, Unit 4401, Sunny Isles, FL 33160, United States; DE, United States [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

12. POTRICO CORP., DE, United States [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

13. RIM GROUP INVESTMENTS I CORP., 4100 Salzedo Street, Apt 1010, Miami, FL 33146, United States; 4100 Salzedo Street, Unit 608, Coral Gables, FL 33146, United States; 4100 Salzedo Street, Unit 807, Coral Gables, FL 33146, United States [VENEZUELA-EO13850] (Linked To: GORRIN BELISARIO, Raul; Linked To: PERDOMO ROSALES, Maria Alexandra).

Designated pursuant to section 1(a)(iv) of E.O. 13850 for being owned or controlled by, or having acted or purported to act for or on behalf of, directly or indirectly, GORRIN BELISARIO, Raul, and PERDOMO ROSALES, Maria Alexandra, persons whose property and interests in property are blocked pursuant to E.O. 13850.

14. RIM GROUP INVESTMENTS II CORP., 4100 Salzedo Street, Apt 1010, Miami, FL 33146, United States; 4100 Salzedo Street, Unit 813, Coral Gables, FL 33146, United States; 4100 Salzedo Street, Unit 913, Coral Gables, FL 33146, United States [VENEZUELA-EO13850] (Linked To: GORRIN BELISARIO, Raul; Linked To: PERDOMO ROSALES, Maria Alexandra).

Designated pursuant to section 1(a)(iv) of E.O. 13850 for being owned or controlled by, or having acted or purported to act for or on behalf of, directly or indirectly, GORRIN BELISARIO, Raul, and PERDOMO ROSALES, Maria Alexandra, persons whose property and interests in property are blocked pursuant to E.O. 13850.

15. RIM GROUP INVESTMENTS III CORP., 4100 Salzedo Street, Apt 1010, Miami, FL 33146, United States; 144 Isla Dorada Blvd., Coral Gables, FL 33143, United States [VENEZUELA-EO13850] (Linked To: GORRIN BELISARIO, Raul; Linked To: PERDOMO ROSALES, Maria Alexandra).

Designated pursuant to section 1(a)(iv) of E.O. 13850 for being owned or controlled by, or having acted or purported to act for or on behalf of, directly or indirectly, GORRIN BELISARIO, Raul, and PERDOMO ROSALES, Maria Alexandra, persons whose property and interests in property are blocked pursuant to E.O. 13850.

16. RIM GROUP INVESTMENTS, CORP., 4100 Salzedo Street, Apt 1010, Coral Gables, FL 33146, United States [VENEZUELA-EO13850] (Linked To: GORRIN BELISARIO, Raul; Linked To: PERDOMO ROSALES, Maria Alexandra).

Designated pursuant to section 1(a)(iv) of E.O. 13850 for being owned or controlled by, or having acted or purported to act for or on behalf of, directly or indirectly, GORRIN BELISARIO, Raul, and PERDOMO ROSALES, Maria Alexandra, persons whose property and interests in property are blocked pursuant to E.O. 13850.

17. RIM GROUP PROPERTIES OF NEW YORK II CORP., 675 Third Avenue, 29th FL., New York, NY 10017, United States; 20 West 53rd Street, Unit 47A, New York, NY 10019, United States; 60 Riverside Boulevard, PH 3602, New York, NY 10069, United States [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

18. RIM GROUP PROPERTIES OF NEW YORK, CORP., 4100 Salzedo St., Unit 1010, Coral Gables, FL 33146, United States [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

19. SEGUROS LA VITALICIA C.A. (a.k.a. LA VITALICIA), Caracas, Venezuela; National ID No. J310205361 (Venezuela) [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

20. TINDAYA PROPERTIES HOLDING USA CORP., 675 Third Avenue, 29th Floor, New York, NY 10017, United States [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

21. TINDAYA PROPERTIES OF NEW YORK CORP., 155 SW 25th Road, Miami, FL 33129, United States; 330 East 57th Street, Unit 12, New York, NY 10022, United States [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

22. TINDAYA PROPERTIES OF NEW YORK II CORP., 675 Third Avenue, 29th Floor, New York, NY 10017, United States [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

23. WINDHAM COMMERCIAL GROUP INC., Panama [VENEZUELA-EO13850] (Linked To: GORRIN BELISARIO, Raul; Linked To: PERDOMO ROSALES, Gustavo Adolfo).

Designated pursuant to section 1(a)(iv) of E.O. 13850 for being owned or controlled by, or having acted or purported to act for or on behalf of, directly or indirectly, GORRIN BELISARIO, Raul, and PERDOMO ROSALES, Gustavo Adolfo, persons whose property and interests in property are blocked pursuant to E.O. 13850.

Aircraft

1. N133JA; Aircraft Model Mystere Falcon 50EX; Aircraft Manufacturer's Serial Number (MSN) 268; Aircraft Tail Number N133JA (aircraft) [VENEZUELA-EO13850] (Linked To: PERDOMO ROSALES, Gustavo Adolfo).

Identified pursuant to E.O. 13850 as property in which PERDOMO ROSALES, Gustavo Adolfo, a person whose property and interested in property are blocked pursuant to E.O. 13850, has an interest.

Dated: January 8, 2019.
Andrea Gacki,
Director, Office of Foreign Assets Control.

[FR Doc. 2019-01643 Filed 2-7-19; 8:45 am]

BILLING CODE 4810-AL-P